DEPARTMENT OF THE INTERIOR

National Park Service

Concessions Management Advisory Board Meeting

AGENCY: National Park Service, Interior.

ACTION: Notice of meeting of Concessions Management Advisory Board.

SUMMARY: In accordance with the Federal Advisory Committee Act (Public Law 92-463, 86 Stat. 770, 5 U.S.C. App. 1, Section 10), notice is hereby given that the Concessions Management Advisory Board will hold its sixth meeting October 31 and November 1, 2001, at the Pisgah Inn on the Blue Ridge Parkway in North Carolina. The meeting will be in the Rhododendron Room at the Pisgah Inn located at Mile Marker 408.6 on the Blue Ridge Parkway. The meeting will convene at 8:30 a.m. on Wednesday, October 31, and will conclude in the afternoon on November 1.

SUPPLEMENTARY INFORMATION: The Advisory Board was established by Title IV, Section 409 of the National Park Omnibus Management Act of 1998, November 13, 1998 (Public Law 105-391). The purpose of the Board is to advise the Secretary and the National Park Service on matters relating to management of concessions in the National Park System.

The advisory board will meet at 8:30 a.m. for the regular business meeting to discuss the following subjects.

• Approval of Minutes of Previous Meeting 5/30-5/31/01

• Report of findings by the handcraft subcommittee

• Rate Approval Program

• Discussion and Preparation of outline for report to the Congress

• Agenda for next meeting

• Date for next meeting

The meeting will be open to the public, however, facilities and space for accommodating members of the public are limited, and persons will be accommodated on a first-come-first-served basis.

Assistance to Individuals With Disabilities at the Public Meeting

The meeting site is accessible to individuals with disabilities. If you plan to attend and will need an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

In light of the events which took place on September 11, 2001, and a recent attempt to relocate National Park Service administrative personnel and offices affecting the publication of notices this notice could not be published at least 15 days prior to the meeting date. The National Park Service regrets these events, but is compelled to hold the meeting as scheduled because of the significant sacrifice re-scheduling would require of committee members who have adjusted their schedules to accommodate the proposed meeting dates, and the high level of anticipation by all parties who will be affected by the outcome of the Board's actions.

Anyone may file with the Board a written statement concerning matters to be discussed. The Board may also permit attendees to address the Board, but may restrict the length of the presentations, as necessary to allow the Board to complete its agenda within the allotted time.

Interested persons may make oral/written presentations to the Advisory Board during the business meeting or file written statements. Such requests should be made to the Director, National Park Service, Attention: Manager, Concession Program, at least 7 days prior to the meeting. Further information concerning the meeting may be obtained from National Park Service, Concession Program, 1849 C Street NW, Room 7313, Washington, DC 20240, Telephone, 202/565-1210.

Draft minutes of the meeting will be available for public inspection approximately 6 weeks after the meeting, in room 7313, Main Interior Building, 1849 C Street, NW, Washington, DC.

Fran P. Mainella,
Director, National Park Service.

[FR Doc. 01-26757 Filed 10-23-01; 8:45 am]

BILLING CODE 4310-70-M